INTERNATIONAL TRADE COMMISSION

[Investigation No. 731-TA-747 (Third Review)]

Fresh Tomatoes From Mexico; Suspension of Antidumping Investigation

AGENCY: United States International Trade Commission.

ACTION: Notice.

SUMMARY: The subject five-year review was instituted on December 3, 2012, to determine whether termination of the suspended investigation on fresh tomatoes from Mexico would be likely to lead to continuation or recurrence of material injury (77 FR 71629). On February 28, 2013, Mexican tomato growers/exporters accounting for a significant percentage of all fresh tomatoes imported into the United States from Mexico provided written notice to the Department of Commerce of their withdrawal from the agreement suspending the antidumping investigation on fresh tomatoes from Mexico. Effective March 1, 2013, Commerce terminated the suspension agreement, terminated the five-year review of the suspended investigation, and resumed the antidumping investigation on fresh tomatoes from Mexico because the suspension agreement no longer covered substantially all imports of fresh tomatoes from Mexico. On March 4, 2013, based on a final 2013 suspension agreement, Commerce announced the suspension of its antidumping investigation of fresh tomatoes from Mexico. Accordingly, the U.S. International Trade Commission now provides notice of the suspension of its antidumping investigation of fresh tomatoes from Mexico.

DATES: Effective Date: March 5, 2013.

SUPPLEMENTARY INFORMATION: Background. On November 1, 1996, the Department of Commerce (“Commerce”) suspended an antidumping investigation on imports of fresh tomatoes from Mexico (61 FR 56618). On October 1, 2001, Commerce initiated its first five-year review of the suspended investigation (66 FR 49926). On the basis of the withdrawal from the suspension agreement by Mexican tomato growers which accounted for a significant percentage of all fresh tomatoes imported into the United States from Mexico, Commerce terminated the suspension agreement, terminated the first five-year review, and resumed the antidumping investigation, effective July 30, 2002 (67 FR 50858, August 6, 2002). On December 16, 2002, Commerce suspended the antidumping investigation on imports of fresh tomatoes from Mexico (67 FR 77044). On November 1, 2007, Commerce initiated its second five-year review of the suspended investigation (72 FR 61861). Once again, based on the withdrawal from the suspension agreement by Mexican tomato growers which accounted for a significant percentage of all fresh tomatoes imported into the United States from Mexico, Commerce terminated the suspension agreement, terminated the second five-year review, and resumed the antidumping investigation, effective January 18, 2008 (73 FR 2887, January 16, 2008). The antidumping investigation was again suspended effective January 22, 2008 (73 FR 4831, January 28, 2008). On December 3, 2012, Commerce initiated its third five-year review of the suspended investigation (77 FR 71684). On February 2, 2013, Commerce and Mexican tomato growers/exporters accounting for a significant percentage of all fresh tomatoes imported into the United States from Mexico initialed a draft agreement that would suspend a resumed antidumping investigation on fresh tomatoes from Mexico. Based on this draft agreement, on February 8, 2013, Commerce published its intention to terminate the 2008 suspension agreement, terminate its third five-year review, and resume its antidumping investigation (78 FR 9366). On March 4, 2013, based on a final 2013 suspension agreement, Commerce announced the suspension of its antidumping investigation of fresh tomatoes from Mexico.

FOR FURTHER INFORMATION CONTACT: Elizabeth Haines (202-205-3200), Office of Investigations, U.S. International Trade Commission, 500 E Street SW., Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its Internet server (http://www.usitc.gov). The public record for this investigation may be viewed on the Commission's electronic docket (EDIS) at http://edis.usitc.gov.

Authority: This investigation is being suspended under authority of title VII of the Tariff Act of 1930; this notice is published pursuant to section 207.40 of the Commission's rules (19 CFR 207.40).

By order of the Commission.
Issued: March 11, 2013.
Lisa R. Barton,
Acting Secretary to the Commission.

[FR Doc. 2013-05996 Filed 3-14-13; 8:45 am]

BILLING CODE 7020-02-P